DEPARTMENT OF THE INTERIOR

National Park Service

Notice of Intent To Prepare a Draft Environmental Impact Statement (DEIS) for an Off-Road Vehicle Management Plan (ORV Management Plan) for Cape Lookout National Seashore (Seashore), NC

SUMMARY: Notice is hereby given in accordance with the National Environmental Policy Act of 1969 (NEPA) (42 U.S.C. 4332) and Council on Environmental Quality regulations (40 CFR 1506.6), the U.S. Department of the Interior, National Park Service (NPS) will prepare an ORV Management Plan/DEIS. The ORV Management Plan/DEIS will be used to guide the management and control of ORVs at the Seashore for approximately the next 15 to 20 years. It will also form the basis for a special regulation that will regulate ORV use at the Seashore. The ORV Management Plan/DEIS will assess potential environmental impacts associated with a range of reasonable alternatives for managing ORV impacts on park resources such as threatened and endangered species, soils, wetlands, wildlife, and cultural resources. Socioeconomic impacts and effects on visitor experience and public safety will also be analyzed. In addition, the plan will focus on issues that have a direct bearing on ORV management, including management of threatened and endangered species and species of special concern, as well as predator management.

DATES: To determine the scope of issues to be addressed in the ORV Management Plan/DEIS and to identify significant issues related to the ORV management at the Seashore, NPS anticipates conducting public scoping meetings in September 2007. The NPS is tentatively planning to conduct one meeting in Charlotte, Raleigh and Morehead City or Beaufort, North Carolina, respectively. Representatives of the NPS will be available to discuss issues, resource concerns, and the planning process at each of the public meetings. Once public meetings have been scheduled, their locations, dates, and times will be published in local newspapers and posted on the NPS Planning, Environment, and Public Comment (PEPC) Web site at http://parkplanning.nps.gov/CALO.

ADDRESSES AND FURTHER INFORMATION: Written comments or requests for information should be addressed to Wouter Ketel, Management Assistant, Cape Lookout National Seashore, 131 Charles St., Harkers Island, North Carolina 28531. Comments may also be hand-delivered to the attention of Wouter Ketel. In addition, comments may be entered online in the NPS PEPC Web site at http://parkplanning.nps.gov/CALO. To comment using PEPC, select the “Cape Lookout National Seashore ORV Management Plan/EIS project,” select “documents,” select this “Notice of Intent,” and then select “comment” and enter your comments. Further information about this project may also be found on the PEPC Web site listed above, including links to information about the NEPA planning process.

Before including your address, phone number, e-mail address, or other personal identifying information in your comment, please be aware that our practice is to make comments, including names, home addresses, home phone numbers, and e-mail addresses of respondents, available for public review. Individual respondents may request that we withhold their names and/or home addresses, etc., but if you wish us to consider withholding this information you must state this prominently at the beginning of your comments. We will always make submissions from organizations or businesses, and from individuals identifying themselves as representatives of or officials of organizations or businesses, available for public inspection in their entirety.

SUPPLEMENTARY INFORMATION: The ORV use on the Seashore predates establishment of the park in 1966. The State of North Carolina turned over the lands of Core Banks to the NPS in 1976. Shackleford Banks was acquired from 1984 to 1986. Beginning in the 1940s, vehicles were transported to the banks by shallow draft ferries, and were used to provide access to productive commercial and recreational fishing spots as well as for camping and sightseeing. Today ORVs are used to provide vehicular access onto the Seashore beaches for recreational purposes, including surf-fishing, surfing, sunbathing, swimming, bird-watching, scenic driving, camping, etc. It is estimated that up to 5500 ORVs are transported by ferry to the Seashore each year.

Executive Order 11644, issued in 1972 and amended by Executive Order 11989 in 1977, states that Federal agencies allowing ORV use must designate the specific areas and trails on public lands on which the use of ORVs may be permitted, and areas in which the use of ORVs may not be permitted. Agency regulations to authorize ORV use provide that designation of such areas and trails will be based upon the protection of the resources of the public lands, promotion of the safety of all users of those lands, and minimization of conflicts among the various uses of those lands. Executive Order 11644 was issued in response to the widespread and rapidly increasing use of ORVs on the public lands—“often for legitimate purposes but also in frequent conflict with wise land and resource management practices, environmental values, and other types of recreational activity.” 36 CFR 4.10(b) requires that “routes and areas designated for off-road motor vehicle use shall be promulgated as special regulations.” In addition, such routes and areas may only be designated in national recreation areas, national seashores, national lakeshores and national preserves. Therefore, in accordance with the Executive Order, the purpose of this Plan/DEIS is to manage ORV use in compliance with the Seashore's enabling legislation, NPS management policies, and other laws and regulations to ensure protection of the natural, cultural, and recreational values of the Seashore's dynamic coastal barrier island environment for present and future generations.

An ORV Management Plan is needed because lack of an approved plan over time has led to inconsistent management of ORV use. Related to the need to provide consistency in ORV management is the need to provide consistency in resource protection in areas of ORV use, particularly as required under the Endangered Species Act of 1973. Compounding these issues, the Seashore is also subject to dynamic weather-related events that continually change the beach, and sometimes limit the area that can be accessed safely by ORVs. Therefore, an ORV Management Plan is needed to: (1) Comply with Executive Orders 11644 and 11989 respecting ORV use, and with NPS laws, regulations (36 CFR 4.10), and policies to minimize impacts to Seashore resources and values; (2) Establish an approved plan incorporating public input that reduces the potential for inconsistent management of ORV use, user conflicts, and safety concerns; (3) Provide for sustainable recreational use; (4) Protect natural and cultural resources from potential effects of ORV use; and (5) Provide for protected species management in relation to ORV and other uses that replaces the Cape Lookout National Seashore Interim Protected Species Management Plan/EA and associated Biological Opinion.

The ORV Management Plan/DEIS will cover lands administered by the NPS on North Core Banks, South Core Banks, Middle Core Banks, Ophelia Banks, and Shackleford Banks. Of the 56-mile long Seashore, about 47 miles spanning North and South Core Banks were identified by the Seashore General Management Plan (December 1982) as appropriate for controlled ORV use; the remaining 9 miles on Shackleford Banks is a proposed wilderness and is closed to vehicle use. However, other potential aspects of the ORV Management Plan, such as species and predator management, will also be addressed for Shackleford Banks, where ORVs are not allowed.

During initial internal scoping the NPS interdisciplinary team identified a number of draft objectives for the ORV Management Plan/DEIS, including:

Management Methodology

• Identify criteria to designate ORV use areas and routes.

• Establish ORV management practices and procedures that have the ability to adapt in response to changes in the Seashore's dynamic physical and biological environment.

• Continue an ongoing and meaningful dialogue with the multiple public groups interested in/affected by ORV management.

• Establish procedures for prompt and efficient public notification of beach access status including any temporary ORV use restrictions for such things as resource and public safety closures, storm events, etc.

• Build stewardship through public awareness and understanding of NPS resource management and visitor use policies and responsibilities as they pertain to the Seashore and ORV management.

Natural Physical Resources

• Minimize adverse impacts from ORV use to soils and topographic features, e.g., dunes, ocean beach, wetlands, tidal flats, etc.

Threatened, Endangered, and Other Protected Species

• Provide protection for threatened, endangered, and other protected species (e.g., State-listed species) and their habitats, minimize adverse impacts related to ORV and other uses as required by laws and policies, such as the Endangered Species Act, the Migratory Bird Treaty Act, and NPS laws and management policies.

Other Vegetation and Wildlife and Wildlife Habitat

• Minimize adverse impacts to native plant and animal species and their habitats related to ORV and other uses.

Cultural Resources

• Protect cultural resources such as shipwrecks, archeological sites, and cultural landscapes from adverse impacts related to ORV use.

Visitor Use and Experience

• Manage ORV use to allow for a variety of appropriate visitor use experiences.

• Minimize conflicts between ORV use and other uses.

• Ensure that ORV operators are informed about the rules and regulations regarding ORV use at the park.

Visitor Safety

• Ensure that ORV management promotes the safety of all visitors.

Park Operations

• Identify operational needs and costs to fully implement an ORV management plan.

The draft and final ORV Management Plan/DEIS will be made available to all known interested parties and appropriate agencies. Full public participation by Federal, State, and local agencies as well as other concerned organizations and private citizens is invited throughout the preparation process of this document.

Authority: The authority for publishing this notice is 40 CFR 1506.6.

The responsible official for this ORV Management Plan/DEIS is Patricia A. Hooks, Regional Director, Southeast Region, National Park Service, 100 Alabama Street, SW., 1924 Building, Atlanta, Georgia 30303.

Dated: July 13, 2007.
Patricia A. Hooks,
Regional Director, Southeast Region.

[FR Doc. 07-3837 Filed 8-6-07; 8:45 am]

BILLING CODE 4310-XR-M